DEPARTMENT OF COMMERCE

International Trade Administration

Proposed Information Collection; Comment Request; Comment Card for E-mail Taglines

AGENCY: U.S. and Foreign Commercial Service.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 8, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Suzan Winters—Phone: (202) 482-6042, Suzan.Winters@mail.doc.gov, Fax: (202) 482-2599.

SUPPLEMENTARY INFORMATION:

I. Abstract

The International Trade Administration's U.S. Commercial Service is mandated by Congress to help U.S. businesses, particularly small- and medium-sized companies, export their products and services to global markets. As part of its mission, the U.S. Commercial Service (CS) currently uses customer satisfaction surveys to collect feedback from U.S. business clients that pay for services performed by CS. These surveys ask the client to evaluate CS on its customer service provision. The results from the surveys are used to make improvements to the agency's business processes in order to provide better and more effective export assistance to U.S. companies. In addition to soliciting client feedback after a service is delivered, the CS would like to add a tagline with a link to a Comment Card at the bottom of all employees' e-mail messages to enable clients to submit feedback anytime they see fit. The actual tagline would encourage recipients of the e-mail to click the Comment Card link and provide feedback on service quality. Samples of taglines could be similar to:

(1) “Please tell me about the quality of service that I have provided to you;” or

(2) “Please let me know how well I have served you.”

A link to a Comment Card would immediately follow the tagline. The purpose of the attached card is to collect feedback from U.S. businesses that interact with CS employees. This information will be used for quality assurance purposes. Survey responses will be used to assess client satisfaction, identify client issues, record client results and recognize exemplary service providers.

II. Method of Collection

Comment Card link embedded in employees' e-mail taglines; clients will fill out and submit the Comment Cards electronically.

III. Data

OMB Control Number: None.

Form Number(s): None.

Type of Review: Regular submission.

Affected Public: Business or other for-profit organizations.

Estimated Number of Respondents: 5,000.

Estimated Time Per Response: 5-10 minutes.

Estimated Total Annual Burden Hours: 833.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 1, 2008.
Gwellnar Banks,
Management Analyst, Office of the Chief Information Officer.

[FR Doc. E8-23560 Filed 10-6-08; 8:45 am]

BILLING CODE 3510-FP-P